DEPARTMENT OF VETERANS AFFAIRS

Commission on Care Meeting Notice

ACTION: Notice of meeting.

In accordance with the Federal Advisory Committee Act, 5 U.S.C., App. 2, the Commission on Care gives notice that it will meet on Monday, April 18, 2016, and Tuesday, April 19, 2016, at the J.W. Marriott, Jr. ASAE Conference Center, 1575 I St. NW., Washington, DC 20005. The meeting will convene at 8:30 a.m. and end by 6:00 p.m. (EDT) on Monday, April 18, 2016. The meeting will convene at 8:30 a.m. and end by 4:00 p.m. (EDT) on Tuesday, April 19, 2016. The meetings are open to the public.

The purpose of the Commission, as described in section 202 of the Veterans Access, Choice, and Accountability Act of 2014, is to examine the access of veterans to health care from the Department of Veterans Affairs and strategically examine how best to organize the Veterans Health Administration, locate health care resources, and deliver health care to veterans during the next 20 years.

Time will be allocated at this meeting for receiving oral statements from the public on Tuesday, April 19th from 11:00 a.m. to 12:00 p.m. (EDT). Statements will be limited to five minutes and, due to time constraints, no more than ten individuals will be permitted to speak. Those interested in making oral statements, must register their intent to do so and provide written copies of their proposed statements to the Designated Federal Officer (DFO) no later than 5:00 p.m. (EDT). on Wednesday, April 15, 2016. Speaking slots will be confirmed on a first come, first serve basis. The public may also submit written statements at any time for the Commission's review to commissiononcare@va.gov.

Any members of the public wishing to attend the meeting may register their intentions by emailing the DFO, John Goodrich, at john.goodrich@va.gov. Remote attendees joining by telephone must email Mr. Goodrich by 12:00 p.m. (EDT) on Friday, April 15, 2016, to request dial-in information.

Date: April 1, 2016.
John Goodrich,
Designated Federal Officer, Commission on Care.

[FR Doc. 2016-07919 Filed 4-6-16; 8:45 am]

BILLING CODE 8320-01-P